DEPARTMENT OF AGRICULTURE

Animal and Plant Health Inspection Service

[Docket No. APHIS-2014-0005]

Notice of Availability of a Pest Risk Analysis for the Importation of Fresh Citrus From China Into the Continental United States

AGENCY: Animal and Plant Health Inspection Service, USDA.

ACTION: Notice of availability.

SUMMARY: We are advising the public that we have prepared a pest risk analysis that evaluates the risks associated with the importation of fresh citrus fruit (pomelo, Nanfeng honey mandarin, ponkan, sweet orange, and Satsuma mandarin) from China into the continental United States. Based on the analysis, we have determined that the application of one or more phytosanitary measures will be sufficient to mitigate the risks of introducing or disseminating plant pests or noxious weeds via the importation of fresh citrus fruit from China. We are making the pest risk analysis available to the public for review and comment.

DATES: We will consider all comments that we receive on or before July 1, 2019.

ADDRESSES: You may submit comments by either of the following methods:

• Federal eRulemaking Portal: Go to http://www.regulations.gov/#!docketDetail;D=APHIS-2014-0005.

• Postal Mail/Commercial Delivery: Send your comment to Docket No. APHIS-2014-0005, Regulatory Analysis and Development, PPD, APHIS, Station 3A-03.8, 4700 River Road, Unit 118, Riverdale, MD 20737-1238.

Supporting documents and any comments we receive on this docket may be viewed at http://www.regulations.gov/#!docketDetail;D=APHIS-2014-0005 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Claudia Ferguson, Senior Regulatory Policy Specialist, Regulatory Coordination and Compliance, PPQ, APHIS, 4700 River Road, Unit 133, Riverdale, MD 20737-1236; (301) 851-2352.

SUPPLEMENTARY INFORMATION:

Background

Under the regulations in “Subpart L—Fruits and Vegetables” (7 CFR 319.56-1 through 319.56-12, referred to below as the regulations) the Animal and Plant Health Inspection Service (APHIS) prohibits or restricts the importation of fruits and vegetables into the United States from certain parts of the world to prevent plant pests from being introduced into or disseminated within the United States.

In response to a request from the national plant protection organization (NPPO) of China, on August 28, 2014, APHIS published a proposed rule ¹ in the Federal Register (79 FR 51267-51273, Docket No. APHIS-2014-0005) to amend the regulations to allow the importation of five species of commercially produced citrus fruit from China into the continental United States. These citrus fruits were: Citrus grandis (L.) Osbeck cv. Guanximiyou, referred to in this document as pomelo; Citrus kinokuni Hort. ex Tanaka, referred to in this document as Nanfeng honey mandarin; Citrus poonensis Hort. ex Tanaka, referred to in this document as ponkan; Citrus sinensis (L.) Osbeck, referred to in this document as sweet orange; and Citrus unshiu Marcov., referred to in this document as Satsuma mandarin. In evaluating China's request, APHIS prepared a pest risk assessment (PRA) and a risk management document (RMD), which we made available along with the proposed rule.

¹ To view the proposed rule, supporting documents, and the comments we received, go to http://www.regulations.gov/#!docketDetail;D=APHIS-2014-0005.

We solicited comments concerning our proposal for 60 days ending October 27, 2014. We received a total of 29 comments by that date. They were from citrus growers, marketing cooperatives, a State department of agriculture, private citizens, and the National Plant Board.

Following the end of the comment period, the NPPO of China expressed concerns regarding some elements of the rule, particularly our proposed requirement that citrus fruit be bagged with double-layered paper bags when the fruit are no more than 2 cm in diameter and still on the tree. This requirement was based on APHIS' understanding that such bagging was a standard industry practice in China for all citrus intended for export. While this is true of pomelo fruit, the NPPO stated that it was not true of the other four species of fruit covered by the proposed rule and would not be operationally feasible for producers of those species. We therefore elected not to finalize the proposed rule.

In 2017, China again requested that we evaluate the risk associated with the importation of pomelo, Nanfeng honey mandarin, ponkan, sweet orange, and Satsuma mandarin from China into the continental United States.

In response to China's request, we prepared a new PRA to identify the pests of quarantine significance that could follow the pathway of the importation of fresh pomelo, Nanfeng honey mandarin, ponkan, sweet orange, and Satsuma mandarin from China into the continental United States. We did this because an initial review of scientific literature suggested additional pests of citrus had been discovered in China since the time the 2014 PRA was prepared. This, in turn, led us to broaden our literature review for the new PRA to incorporate additional sources of information about plant pests in China. As a result, the new PRA has a significantly longer pest list than the 2014 PRA, and identifies two additional quarantine pests, both Lepidoptera, that could follow the pathway on fresh pomelo, Nanfeng honey mandarin, ponkan, sweet orange, and Satsuma mandarin from China imported into the continental United States. Based on this new PRA, a new RMD was prepared to identify phytosanitary measures that could be applied to the fresh pomelo, Nanfeng honey mandarin, ponkan, sweet orange, and Satsuma mandarin to mitigate the pest risk.

Section 319.56-4 contains a performance-based process for approving the importation of certain fruits and vegetables that, based on the findings of a pest risk analysis, can safely be imported into the United States subject to one or more of the five designated phytosanitary measures listed in paragraph (b) of that section. Based on the new RMD that we have prepared, we have concluded that fresh pomelo, Nanfeng honey mandarin, ponkan, sweet orange, and Satsuma mandarin can safely be imported from China into the continental United States using one or more of the five designated phytosanitary measures listed in § 319.56-4(b). The NPPO of China would have to enter into an operational workplan with APHIS that sets forth the daily procedures that the NPPO of China will take to implement the measures identified in the RMD. These measures are summarized below:

• Importation in commercial consignments only.

• Registration of places of production and packinghouses with the NPPO of China.

• Certification by the NPPO of propagative material used at places of production as being free of quarantine pests.

• Periodic inspections of places of production throughout the shipping season.

• Grove sanitation.

• Pest-free places of production for Bactrocera minax and B. tsuneonis.

• Pest-free places of production for B. correcta, B. cucurbitae, B. dorsalis, B. orientalis, B. pedestris, and B. tau; or determination that places of production are located in areas of low pest prevalence for these species of fruit fly based on trapping, and in-transit cold treatment as an additional phytosanitary safeguard.

• Maintaining the identity and origin of the lot of fruit throughout the export process to the United States.

• Safeguarding of harvested fruit.

• Post-harvest visual inspection of fruit by the NPPO or officials authorized by the NPPO according to a biometric sample.

• Cutting a portion of the fruit in the sample to inspect for quarantine pests.

• Washing, brushing, and treatment with a surface disinfectant.

• Issuance of a phytosanitary certificate with an additional declaration.

• Port of entry inspections.

• Importation under a permit issued by APHIS.

• Possible remedial measures in the event of detection of quarantine pests at registered places of production or packinghouses, or in/on consignments of citrus fruit from China at ports of entry into the United States.

We are also proposing to exempt pomelos that are grown in areas that are free of B. minax and B. tsuneonis and that are of low pest prevalence (identified by the NPPO as having low levels for the specified pests and subject to effective surveillance, control, or eradication measures) for B. correcta, B. cucurbitae, B. dorsalis, B. orientalis, B. pedestris, and B. tau from cold treatment for fruit flies, if the pomelos are bagged with double-layered paper bags no more than 2 months before harvest.

Each of the pest mitigation measures that would be required, along with evidence of their efficacy in removing pests of concern from the pathway, are described in detail in the RMD.

Therefore, in accordance with § 319.56-4(c)(3)(ii), we are announcing the availability of our PRA and RMD for public review and comment. Those documents, as well as a description of the economic considerations associated with the importation of fresh citrus fruit from China, may be viewed on the Regulations.gov website or in our reading room (see ADDRESSES above for a link to Regulations.gov and information on the location and hours of the reading room). You may request paper copies of these documents by calling or writing to the person listed under FOR FURTHER INFORMATION CONTACT. Please refer to the subject of the analysis you wish to review when requesting copies.

After reviewing any comments we receive, we will announce our decision regarding the import status of fresh citrus fruit from China in a subsequent notice. If the overall conclusions of our analysis and determination of risk remain unchanged following our consideration of the comments, then we will authorize the importation of fresh citrus fruit from China into the continental United States subject to the requirements specified in the RMD.

Authority: 7 U.S.C. 1633, 7701-7772, and 7781-7786; 21 U.S.C. 136 and 136a; 7 CFR 2.22, 2.80, and 371.3.

Done in Washington, DC, on April 25, 2019.
Kevin Shea,
Administrator, Animal and Plant Health Inspection Service.

[FR Doc. 2019-08767 Filed 4-30-19; 8:45 am]

BILLING CODE 3410-34-P